DEPARTMENT OF COMMERCE

National Oceanic and Atmospheric Administration

[I.D. 111202G]

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on December 10-12, 2002. See SUPPLEMENTARY INFORMATION for specific dates and times.

ADDRESSES: The meetings will be held at the Hyatt Dorado Beach Hotel, Carr. 693, Dorado, Puerto Rico.

FOR FURTHER INFORMATION CONTACT: Caribbean Fishery Management Council, 268 Munoz Rivera Avenue, Suite 1108, San Juan, Puerto Rico 00918-1920; telephone: (787) 766-5926.

SUPPLEMENTARY INFORMATION: The Council will convene on Tuesday, December 10, 2002, from 9 a.m. to 4 p.m., and the Administrative Committee will meet from 4:15 p.m. to 5:30 p.m. The Council will reconvene on Wednesday, December 11, 2002, from 9 a.m. to 5 p.m., and Thursday, December 12, 2002, from 9 a.m. to 5 p.m., approximately.

The Council will hold its 110th regular public meeting to discuss the items contained in the following agenda:

December 10, 2002, 9 a.m.-4 p.m.

Call to Order

Adoption of Agenda

Consideration of 109th Council Meeting Verbatim Transcription

Executive Director's Report

Essential Fish Habitat (EFH)-Draft Environmental Impact Statement Progress Report

-EFH Designation of Species

-Habitat Areas of Particular Concern (HAPC)

-Impact on Habitat

-Mitigating Measures

-Decision Making Process

-Exclusive Economic Zone (EEZ)

-Recommendations to States

4:15 p.m.-5:30 p.m.

Administrative Committee Meeting

-Advisory Panel/Scientific Statistical Committee/Habitat Advisory Panel Membership

-Budget Projection

-Personnel Retirement Issues

-Other Business

December 11, 2002, 9 a.m.-5 p.m.

Sustainable Fisheries Act

-Status Criteria of Species

-Recovery Plan Queen Conch

-Recovery Plan Nassau Grouper

-Recovery Plan Goliath

-Bycatch

-Management Alternatives

December 12, 2002, 9 a.m. to 5 p.m.

Enforcement

-Fishing in St. Croix-Mr. Farchetti

-Federal Government

-Puerto Rico

-U.S. Virgin Islands

-U.S. Coast Guard

Administrative Committee Meeting Recommendations

Meetings Attended by Council Members and Staff

Other Business

-Recognition to Caribbean Fishery Management Council by Hyperbaric Chamber Group

Next Council Meeting

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-2577, telephone: (787) 766-5926, at least 5 days prior to the meeting date.

Dated: November 20, 2002.
Richard W. Surdi,
Acting Director, Office of Sustainable Fisheries, National Marine Fisheries Service.

[FR Doc. 02-29971 Filed 11-25-02; 8:45 am]

BILLING CODE 3510-22-S